DEPARTMENT OF DEFENSE

Office of the Secretary

[Docket ID DoD-2013-OS-0112]

Privacy Act of 1974; System of Records

AGENCY: National Geospatial-Intelligence Agency, DoD.

ACTION: Notice to add a new system of records.

SUMMARY: The National Geospatial-Intelligence Agency is establishing a new system of records in its inventory of record systems subject to the Privacy Act of 1974, as amended. NGA is establishing a system of records to account for government employees' and military personnel activities for the purpose of providing operational metrics, tracking budgets, and presenting work products to senior leadership regarding travel, training and supplies. Data is used by leadership to effectively and efficiently make decisions for fiscal and resource planning.

DATES: This proposed action will be effective on December 16, 2013 unless comments are received which result in a contrary determination. Comments will be accepted on or before December 13, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: National Geospatial-Intelligence Agency (NGA), ATTN: Security Specialist, Mission Support, MSRS P-12, 7500 GEOINT Drive, Springfield, VA 22150.

SUPPLEMENTARY INFORMATION: The National Geospatial-Intelligence Agency notices for systems of records subject to the Privacy Act of 1974 (5 U.S.C. 552a), as amended, have been published in the Federal Register and are available from the address in FOR FURTHER INFORMATION CONTACT or at the Defense Privacy and Civil Liberties Web site at http://dpclo.defense.gov/privacy/SORNs/component/ngia/index.html.

The proposed system report, as required by 5 U.S.C. 552a(r) of the Privacy Act of 1974, as amended, was submitted on May 17, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 6, 2013.
Aaron Siegel,
Alternate OSD Federal Register Liaison Officer, Department of Defense.

NGA-007

System name:

National Geospatial-Intelligence Agency Management and Execution Tracker (MET)

System location:

Records are maintained at NGA headquarters in Washington, DC metro facilities.

Categories of individuals covered by the system:

Government employees and military personnel at the National Geospatial Intelligence Agency.

Categories of records in the system:

Name, current address, date and place of birth, employee ID number, program element code, department ID, job code, supervisor, email address, occupation, official title, subproject code, work address, home address, work phone, home phone, Social Security Number (SSN), travel information, contact information, discretionary training information and supply information. In addition, dates of employee and military personnel activities, budget allocations and assignments, and classified justifications are also included in the system.

Authority for maintenance of the system:

5 U.S.C. 301, Departmental Regulations.

Purpose(s):

NGA collects, uses, maintains, and disseminates information to account for government employees and military members' activities for the purpose of providing operational metrics, tracking budgets, and presenting work products to senior leadership regarding travel, training, and supply. Data is used by leadership to effectively and efficiently make decisions for fiscal and resource planning.

Routine uses of records maintained in the system, including categories of uses and the purposes for such uses:

In addition to those disclosures generally permitted under 5 U.S.C. 552a(b) of the Privacy Act of 1974, as amended, these records may be specifically disclosed outside of the DoD as a routine pursuant to 5 U.S.C. a(b)(3) as follows:

The DoD Blanket Routine Uses set forth at the beginning of NGA's compilation or systems of records notices may apply to this system.

Policies and practices for storing, retrieving, accessing, retaining, and disposing of records in the system:

Storage:

Paper records and electronic storage media.

Retrievability:

Records may be retrieved by name or any of the personal identifiers listed above.

Safeguards:

Records in this system are safeguarded in accordance with applicable rules and policies, including all applicable NGA automated systems security and access policies. Strict controls have been imposed to minimize the risk of compromising the stored information. Access to the computer system containing the records in this system is limited to those individuals who have a need to know the information for the performance of their official duties and who have appropriate clearances and permissions. Usage of physical access controls, encryption, monitoring and auditing mechanisms protect the information stored on the system.

Retention and disposal:

NGA will maintain travel related records in electronic form for six years, and training, budget, and supply related records for two years, after which, hardcopies are filed with the supervisor and archived with Record Services for six years.

System manager(s) and address:

Resource and Programming Office, Execution Division, Operations Branch Chief (ABREO), Analysis Directorate, National Geospatial-Intelligence Agency (NGA), 7500 GEOINT Dr., Springfield, VA 22150.

Notification procedure:

Individuals seeking to determine whether this system of records contains information about themselves should address written inquiries to the National Geospatial-Intelligence Agency (NGA), Freedom of Information Act/Privacy Act Office, 7500 GEOINT Drive, Springfield, VA 22150.

A request for notification must meet the requirements of 32 CFR 320.4. The request envelope and letter should both be clearly marked “Privacy Act Inquiry.”

The written request must contain your full name, current address, and date and place of birth. Also include an explanation of why you believe NGA would have information on you and specify when you believe the records would have been created.

You must sign your request and your signature must either be notarized or submitted under 28 U.S.C. 1746, a law that permits statements to be made under penalty of perjury, as a substitute for notarization.

Record access procedures:

Individuals seeking access to records about themselves contained in this system of records should address written inquiries to the National Geospatial-Intelligence Agency (NGA), Freedom of Information Act/Privacy Act Office, 7500 GEOINT Drive, Springfield, VA 22150.

A request for access must meet the requirements of 32 CFR 320.4. The request envelope and letter should both be clearly marked “Privacy Act Inquiry.”

The written request must contain your full name, current address, and date and place of birth. Also include an explanation of why you believe NGA would have information on you and specify when you believe the records would have been created.

You must sign your request and your signature must either be notarized or submitted under 28 U.S.C. 1746, a law that permits statements to be made under penalty of perjury, as a substitute for notarization.

Contesting record procedures:

Individuals contesting the accuracy of records in this system of records containing information about themselves should address written inquiries to the National Geospatial-Intelligence Agency (NGA), Freedom of Information Act/Privacy Act Office, 7500 GEOINT Drive, Springfield, VA 22150.

A request for contesting records must meet the requirements of 32 CFR 320.4. The request envelope and letter should both be clearly marked “Privacy Act Inquiry.”

The written request must contain your full name, current address, and date and place of birth. Also include an explanation of why you believe NGA would have information on you and specify when you believe the records would have been created.

You must sign your request and your signature must either be notarized or submitted under 28 U.S.C. 1746, a law that permits statements to be made under penalty of perjury, as a substitute for notarization.

Record source categories:

Information originates from the individual and the NGA PeopleSoft Directory.

Exemptions claimed for the system:

An exemption rule for this system has been promulgated in accordance with requirements of 5 U.S.C. 552a(d) pursuant to 5 U.S.C. 552a(k)(1) and published in 32 CFR Part 320. For additional information, contact the system manager.

[FR Doc. 2013-27065 Filed 11-12-13; 8:45 am]

BILLING CODE 5001-06-P